DEPARTMENT OF AGRICULTURE

Forest Service

Tuolumne-Mariposa Counties Resource Advisory Committee

AGENCY: Forest Service, USDA.

ACTION: Notice of Meeting.

SUMMARY: The Tuolumne-Mariposa Counties Resource Advisory Committee will meet on July 11, 2011 at the City of Sonora Fire Department, in Sonora, California. The purpose of the meeting is to hear presentations made by project proponents requesting RAC funding.

DATES: The meeting will be held July 11, 2011, from 12 p.m. to 3 p.m.

ADDRESSES: The meeting will be held at the City of Sonora Fire Department located at 201 South Shepherd Street, in Sonora, California (CA 95370).

FOR FURTHER INFORMATION CONTACT: Beth Martinez, Committee Coordinator, USDA, Stanislaus National Forest, 19777 Greenley Road, Sonora, CA 95370 (209) 532-3671, extension 320; e-mail bethmartinez@fs.fed.us.

SUPPLEMENTARY INFORMATION: Agenda items to be covered include: (1) Presentation of non-Forest Service project submittals by project proponents; (2) Public comment on meeting proceedings. This meeting is open to the public.

Dated: 6/17/2011.
Christina M. Welch,
Deputy Forest Supervisor.

[FR Doc. 2011-15685 Filed 6-22-11; 8:45 am]

BILLING CODE 3410-ED-P